DEPARTMENT OF HEALTH AND HUMAN SERVICES

Meeting of the National Preparedness and Response Science Board

AGENCY: Office of the Secretary, Department of Health and Human Services.

ACTION: Notice.

SUMMARY: As stipulated by the Federal Advisory Committee Act, the Department of Health and Human Services (HHS) is hereby giving notice that the National Preparedness and Response Science Board (NPRSB) will hold a public teleconference on December 7, 2017.

DATES: The NPRSB meeting is December 7, 2017, from 12:00 p.m. to 1:00 p.m. EST.

ADDRESSES: We encourage members of the public to attend the teleconference. To register, send an email to nprsb@hhs.gov with “NPRSB Registration” in the subject line. Submit your comments to nprsb@hhs.gov or on the NPRSB Contact Form located at http://www.phe.gov/Preparedness/legal/boards/nprsb/Pages/RFNBSBComments.aspx.

SUPPLEMENTARY INFORMATION: Pursuant to section 319M of the Public Health Service Act (42 U.S.C. 247d-7f) and section 222 of the Public Health Service Act (42 U.S.C. 217a), HHS established the NPRSB. The Board shall provide expert advice and guidance to the HHS Secretary on scientific, technical, and other matters of special interest regarding current and future chemical, biological, nuclear, and radiological agents, whether naturally occurring, accidental, or deliberate. The NPRSB may also provide advice and guidance to the HHS Secretary and/or the Assistant Secretary for Preparedness and Response (ASPR) on other matters related to public health emergency preparedness and response.

Background: The NPRSB public meeting on December 7, 2017, is dedicated to the deliberation and vote on the Future of the NPRSB Work Group Draft Letter to the ASPR. We will post modifications to the agenda on the NPRSB December 7, 2017, meeting Web site, which is located at https://www.phe.gov/nprsb.

Availability of Materials: We will post all meeting materials prior to the meeting on the NPRSB December 7, 2017, meeting Web site located at https://www.phe.gov/nprsb.

Procedures for Providing Public Input: Members of the public attend by teleconference via a toll-free call-in phone number, which is available on the NPRSB Web site at https://www.phe.gov/nprsb.

We encourage members of the public to provide written comments that are relevant to the NPRSB teleconference prior to December 7, 2017. Send written comments by email to nprsb@hhs.gov with “NPRSB Public Comment” in the subject line. The NPRSB Chair will respond to all comments received by December 1, 2017, during the meeting.

Dated: November 15, 2017.
Robert P. Kadlec,
Assistant Secretary for Preparedness and Response, Department of Health and Human Services.

[FR Doc. 2017-25336 Filed 11-22-17; 8:45 am]

BILLING CODE P